DEPARTMENT OF COMMERCE

Bureau of the Census

[Docket Number 071108692-7694-01]

Annual Surveys in the Manufacturing Area

AGENCY: Bureau of the Census, Commerce.

ACTION: Notice of determination.

SUMMARY: The Bureau of the Census (Census Bureau) is conducting the 2007 Annual Surveys in the Manufacturing Area. The 2007 Annual Surveys consist of the Current Industrial Reports surveys and the Survey of Industrial Research and Development. We have determined that annual data collected from these surveys are needed to aid the efficient performance of essential governmental functions and have significant application to the needs of the public and industry. The data derived from these surveys, most of which have been conducted for many years, are not publicly available from non-governmental or other governmental sources. As in prior years, these surveys will operate as separate collections of national statistical data on manufacturing. Because 2007 is an economic census year, the 2007 Annual Survey of Manufactures is being conducted as part of the economic census and is not covered in this notice of determination. The following two annual surveys in the manufacturing area will not be conducted in 2007: Survey of Plant Capacity Utilization, and the Survey of Pollution Abatement Costs and Expenditures.

ADDRESSES: The Census Bureau will furnish report forms to organizations included in each survey. Additional copies of the surveys are available upon written request to the Director, U.S. Census Bureau, Washington, DC 20233-0101.

FOR FURTHER INFORMATION CONTACT: Thomas E. Zabelsky, Chief, Manufacturing and Construction Division, on (301) 763-4598.

SUPPLEMENTARY INFORMATION: The Census Bureau is authorized to conduct mandatory surveys necessary to furnish current data on the subjects covered by the major censuses authorized by Title 13, United States Code, sections 61, 81, 131, 182, 193, 224, and 225. The data collected in the annual surveys in the manufacturing area will be similar to those collected in the past and within the general scope and nature of those inquiries covered in the economic census year; all the data collected in these surveys are mandatory under the authority of the sections of Title 13, U.S.C., mentioned above. In the interim years, most of these surveys are conducted under a mandatory basis as well.

As in prior years, these surveys will operate as separate collections of national statistical data on manufacturing. Because 2007 is an economic census year, the 2007 Annual Survey of Manufactures is being conducted as part of the economic census and is not covered in this notice of determination. Two annual surveys in the manufacturing area will not be conducted in 2007. First, because the assessment of plant capacity utilization will be made on a quarterly basis for 2007, the Annual Survey of Plant Capacity Utilization will not be conducted this year. Second, the Annual Survey of Pollution Abatement Costs and Expenditures will not be conducted this year because the partnering agency for this survey has determined not to collect these data for 2007.

Current Industrial Reports

Most of the following commodity or product surveys provide data on shipments or production, stocks, unfilled orders, orders booked, consumption, and so forth. Reports will be required of all, or a sample of, establishments engaged in the production of the items covered by the following list of surveys:

Survey Title

MA311D Confectionery.

MA314Q Carpets and Rugs.

MA321T Lumber Production and Mill Stocks.

MA325F Paint and Allied Products.

MA325G Pharmaceutical Preparations, except Biologicals.

MA327C Refractories.

MA327E Consumer, Scientific, Technical, and Industrial Glassware.

MA331B Steel Mill Products.

MA332Q Antifriction Bearings.

MA333A Farm Machinery and Lawn and Garden Equipment.

MA333D Construction Machinery.

MA333F Mining Machinery and Mineral Processing Equipment.

MA333M Refrigeration, Air-conditioning, and Warm Air Equipment.

MA333N Fluid Power Products for Motion Control (Including Aerospace).

MA333P Pumps and Compressors.

MA334A Electromedical Equipment and Analytical Instruments.

MA334C Control Instruments.

MA334D Defense, Navigational, and Aerospace Electronics.

MA334M Consumer Electronics.

MA334Q Semiconductors, Electronic Components, and Semiconductor.

Manufacturing Equipment

MA334T Meters and Test Devices.

MA335E Electric Housewares and Fans.

MA335F Major Household Appliances.

MA335J Insulated Wire and Cable.

MA335K Wiring Devices and Supplies.

MA336G Aerospace Industries (Orders, Sales, and Backlog).

The following list of surveys represent annual counterparts of monthly and quarterly surveys and will cover only those establishments that are not canvassed, or do not report, in the more frequent surveys. Accordingly, there will be no duplication in reporting. The content of these annual reports (listed below) will be identical with that of the monthly and quarterly reports:

Survey Title

M311H Animal and Vegetable Fats and Oils (Stocks).

M311J Oilseeds, Beans, and Nuts (Primary Producers).

M311L Fats and Oils (Renderers).

M311M Animal and Vegetable Fats and Oils (Consumption and Stocks).

M311N Animal and Vegetable Fats and Oils (Production, Consumption, and Stock).

M313P Consumption on the Cotton System.

M313N Cotton and Raw Linters in Public Storage.

M327G Glass Containers.

M336G Civil Aircraft and Aircraft Engines.

MQ311A Flour Milling Products.

MQ313A Textiles.

MQ315A Apparel.

MQ315B Socks.

MQ325A Inorganic Chemicals.

MQ325B Fertilizer Materials.

MQ327D Clay Construction Products.

MQ333W Metalworking Machinery.

MQ334P Telecommunications.

MQ334R Computers and Peripheral Equipment.

Survey of Industrial Research and Development

The Survey of Industrial Research and Development measures spending on research and development activities in private U.S. businesses. The Census Bureau collects and compiles this information in accordance with a joint project agreement between the National Science Foundation (NSF) and the Census Bureau. The NSF publishes the results in its publication series. All data items are collected on a mandatory basis under the authority of the sections of Title 13,U.S.C., mentioned above.

Notwithstanding any other provision of law, no person is required to respond to, nor shall a person be subject to a penalty for failure to comply with, a collection of information subject to the requirements of the Paperwork Reduction Act (PRA) unless that collection of information displays a current, valid Office of Management and Budget (OMB) control number. In accordance with the PRA, 44 U.S.C., Chapter 35, the OMB approved the 2007 Annual Surveys under the following OMB control numbers: Current Industrial Reports—0607-0392, 0607-0395, and 0607-0476; and Survey of Industrial Research and Development—0607-0912.

Based upon the foregoing, I have directed that the Annual Surveys in the Manufacturing Area be conducted for the purpose of collecting these data.

Dated: November 26, 2007.
Charles Louis Kincannon,
Director, Bureau of the Census.

[FR Doc. E7-23250 Filed 11-29-07; 8:45 am]

BILLING CODE 3510-07-P